DEPARTMENT OF COMMERCE

National Telecommunications and Information Administration

[Docket Number: 000410097-0097-01]

RIN 0648-ZA11

Public Telecommunications Facilities Program (PTFP)

AGENCY: National Telecommunications and Information Administration, Commerce.

ACTION: Notice of applications received.

SUMMARY: The National Telecommunications and Information Administration (NTIA) previously announced the solicitation of grant applications for the Public Telecommunications Facilities Program (PTFP). This notice announces the list of applications received and notifies any interested party that it may file comments with the Agency supporting or opposing an application.

FOR FURTHER INFORMATION CONTACT: William Cooperman, Director, Public Telecommunications Facilities Program, telephone: (202) 482-5802; fax: (202) 482-2156. Information about the PTFP can also be obtained electronically via Internet. The PTFP Internet site can be accessed at http://www.ntia.doc.gov.

SUPPLEMENTARY INFORMATION: By Federal Register notice dated December 23, 1999, the NTIA, within the Department of Commerce, announced that it was soliciting grant applications for the Public Telecommunications Facilities Program (PTFP). NTIA announced that the closing date for receipt of PTFP applications was 8 p.m. EST, February 17, 2000.

In all, the PTFP received 278 applications from 53 states and territories (including the District of Columbia). The total amount of funds requested by the applicants is $233 million. Requests for FY 2000 funds total $130 million with an additional $103 million requested during FY 2001-2003 as part of multi-year digital television applications.

Notice is hereby given that the PTFP received applications from the following organizations. The list includes all applications received. Identification of any application only indicates its receipt. It does not indicate that it has been accepted for review, has been determined to be eligible for funding, or that an application will receive an award. Further information about each application is available on the PTFP Internet site at http://www.ntia.doc.gov.

Any interested party may file comments with the Agency supporting or opposing an application and setting forth the grounds for support or opposition. PTFP will forward a copy of any opposing comments to the applicant. Comments must be sent to PTFP at the following address: NTIA/PTFP, Room 4625, 1401 Constitution Ave., N.W., Washington, D.C. 20230.

The Agency will incorporate all comments from the public and any replies from the applicant in the applicant's official file.

Alabama

File No. 00165 Alabama ETV Commission (Birmingham)

File No. 00084 Troy State University (Troy)

Alaska

File No. 00186 Alaska Public Radio Network (Anchorage)

File No. 00262 Alaska Public Telecommunications (Anchorage)

File No. 00116 Kuskokwim Public Broadcasting Corporation (McGrath)

File No. 00035 Pribilof School District (Saint Paul Island)

File No. 00136 Talkeetna Community Radio, Inc. (Talkeetna)

American Samoa

File No. 00214 KVZK, American Samoa Government (Pago Pago)

Arizona

File No. 00128 Arizona State University (Tempe)

File No. 00026 Northern Arizona University (Flagstaff)

File No. 00254 Tohono O'odham Nation (Sells)

File No. 00149 University of Arizona (Tucson)

File No. 00150 University of Arizona (Tucson)

Arkansas

File No. 00123 Arkansas Educational TV Commission (Conway)

California

File No. 00152 CSPP Research and Service Foundation (San Diego)

File No. 00189 California State University/Northridge Foundation (Northridge)

File No. 00131 California State University/Sacramento (Sacramento)

File No. 00137 California State University/Sacramento (Sacramento)

File No. 00135 California State University/Stanislaus (Turlock)

File No. 00146 Coast Community College District (Huntington Beach)

File No. 00068 Humboldt State University (Arcata)

File No. 00031 KTEH-TV Foundation (San Jose)

File No. 00040 KVIE, Inc. (Sacramento)

File No. 00052 Los Angeles Unified School District (Los Angeles)

File No. 00261 Peralta Community College District (Oakland)

File No. 00090 Radio Bilingue, Inc, (Fresno)

File No. 00093 Radio Bilingue, Inc. (Fresno)

File No. 00218 Rural California Broadcasting Corporation (Rohnert Park)

File No. 00195 Rural California Broadcasting Corporation (Rohnert Park)

File No. 00223 Rural California Broadcasting Corporation (Rohnert Park)

File No. 00229 San Bernardino Community College (San Bernardino)

File No. 00095 San Diego Community College District (San Diego)

File No. 00170 San Diego State University Foundation (San Diego)

File No. 00014 San Mateo County Community College (San Mateo)

File No. 00125 Santa Monica Community College District (Santa Monica)

File No. 00187 South Orange Co. Community College (Mission Viejo)

File No. 00108 The National Hispanic University (San Jose)

File No. 00088 University of California/Santa Cruz (Santa Cruz)

File No. 00181 University of Southern California (Los Angeles)

File No. 00039 Valley Public Television (Fresno)

Colorado

File No. 00109 Boulder Community Broadcast Association (Boulder)

File No. 00169 Colorado State Board of Agriculture (Durango)

File No. 00194 Denver Educational Broadcasting (Denver)

File No. 00027 Front Range Educational Media Corporation (Denver)

File No. 00018 Grand Valley Public Radio Co, Inc. (Grand Junction)

File No. 00101 KUTE Incorporated (Ignacio)

File No. 00083 San Miguel Educational Fund (Telluride)

Connecticut

File No. 00208 Connecticut Public Broadcasting (Hartford)

District of Columbia

File No. 00211 American University (Washington)

File No. 00272 Howard University (Washington)

File No. 00273 Howard University (Washington)

Florida

File No. 00064 Barry Telecommunications, Inc. (Boynton Beach)

File No. 00067 Barry Telecommunications, Inc. (Boynton Beach)

File No. 00242 Barry Telecommunications, Inc. (Boynton Beach)

File No. 00134 City of Cape Coral (Cape Coral)

File No. 00251 Community TV Foundation of South Florida (Miami)

File No. 00066 Community Communications, Inc. (Orlando)

File No. 00046 Florida Gulf Coast University (Fort Myers)

File No. 00053 Florida Gulf Coast University (Fort Myers)

File No. 00078 Florida State University (Tallahassee)

File No. 00117 Florida State University (Tallahassee)

File No. 00118 Florida State University (Tallahassee)

File No. 00119 Florida State University (Tallahassee)

File No. 00112 Florida West Coast Public Broadcasting (Tampa)

File No. 00096 Sarasota County Government (Sarasota)

File No. 00102 School Board of Miami-Dade County (Miami)

File No. 00184 School Board of Miami-Dade County (Miami)

File No. 00028 University of Florida (Gainesville)

File No. 00151 University of Florida (Gainesville)

File No. 00192 University of Florida (Gainesville)

File No. 00059 University of South Florida (Tampa)

File No. 00202 University of South Florida (Tampa)

File No. 00054 WJCT, Inc. (Jacksonville)

File No. 00178 WJCT-FM (Jacksonville)

Georgia

File No. 00226 Clark Atlanta University (Atlanta)

File No. 00258 Fort Valley State University (Fort Valley)

File No. 00063 Georgia Public Broadcasting (Atlanta)

File No. 00191 Valdosta State University (Valdosta)

File No. 00225 West Georgia Telecommunications (Carrollton)

Guam

File No. 00147 University of Guam (Mangilao)

Idaho

File No. 00263 Boise State University Foundation (Boise)

File No. 00158 Idaho Public Television (Boise)

Illinois

File No. 00033 Black Hawk College (Moline)

File No. 00034 Black Hawk College (Moline)

File No. 00260 Illinois Valley Public Telecommunications Corporation (Peoria)

File No. 00233 LPE Foundation (Schaumburg)

File No. 00144 Loyola University Chicago (Chicago)

File No. 00069 Southern Illinois University (Carbondale)

File No. 00175 University of Illinois (Champaign)

File No. 00241 University of Illinois (Champaign)

File No. 00259 West Central Illinois Educational Telecommunications Corporation (Springfield)

File No. 00038 Window to the World Communications (Chicago)

Indiana

File No. 00274 Ball State University (Muncie)

File No. 00248 Fort Wayne Public Television, Inc. (Fort Wayne)

File No. 00143 Indiana University (Bloomington)

File No. 00244 Metro Indianapolis Public Broadcasting (Indianapolis)

File No. 00247 Metro Indianapolis Public Broadcasting (Indianapolis)

File No. 00055 Michiana Public Broadcasting Corporation (Elkhart)

File No. 00130 Tri-State Public Teleplex, Inc. (Evansville)

Iowa

File No. 00227 Iowa Public Broadcasting Board (Johnston)

File No. 00113 Iowa Public Television (Johnston)

File No. 00114 Iowa Public Television (Johnston)

File No. 00203 Iowa State University (Ames)

File No. 00204 Iowa State University (Ames)

File No. 00271 Iowa State University (Ames)

File No. 00008 University of Northern Iowa (Cedar Falls)

File No. 00010 University of Northern Iowa (Cedar Falls)

Kansas

File No. 00016 Kansas Public Telecommunications Service (Wichita)

File No. 00177 Kanza Society, Inc. (Garden City)

File No. 00087 Washburn University of Topeka (Topeka)

Kentucky

File No. 00176 City of Sparta Police & Fire Department (Sparta)

File No. 00089 Eastern Kentucky University (Richmond)

File No. 00185 Kentucky Authority for ETV ( Lexington)

File No. 00250 Morehead State University (Morehead)

Louisiana

File No. 00171 Educational Broadcasting Foundation (Metairie)

File No. 00007 Louisiana Public Broadcasting (Baton Rouge)

Maine

File No. 00013 Maine Public Broadcasting Corporation (Bangor)

File No. 00029 Maine Public Broadcasting Corporation (Bangor)

Maryland

File No. 00085 Maryland Public Television (Owings Mills)

File No. 00139 University of Maryland Eastern Shore (Princess Anne)

Massachusetts

File No. 00103 Boston University (Boston)

File No. 00110 Technology Broadcasting Corporation (Cambridge)

File No. 00166 University of Massachusetts, Boston (Boston)

File No. 00115 University of Massachusetts/Boston (Boston)

File No. 00126 WGBH Educational Foundation (Boston)

File No. 00127 WGBH Educational Foundation (Boston)

Michigan

File No. 00120 Central Michigan University (Mt. Pleasant)

File No. 00140 Central Michigan University (Mt. Pleasant)

File No. 00228 Delta College (University Center)

File No. 00161 Grand Valley State University (Grand Rapids)

File No. 00012 Northern Michigan University (Marquette)

File No. 00076 Northern Michigan University (Marquette)

File No. 00024 University of Michigan (Flint)

File No. 00224 Wayne State University (Detroit)

Minnesota

File No. 00041 Asian Media Access (Minneapolis)

File No. 00074 Austin Independent School District 492 (Austin)

File No. 00050 Duluth-Superior Area Educational TV (Duluth)

File No. 00081 Faribault Community TV & Multimedia Center (Faribault)

File No. 00238 Fresh Air, Inc. (Minneapolis)

File No. 00197 Minnesota Public Radio (St. Paul)

File No. 00037 Northern Minnesota PTV, Inc. (Bemidji)

File No. 00062 Northern Minnesota PTV, Inc. (Bemidji)

File No. 00082 Northern Minnesota PTV, Inc. (Bemidji)

File No. 00198 Pioneer Public Television (Appleton)

File No. 00159 Southern California Public Radio (St. Paul)

File No. 00015 Twin Cities Public Television, Inc. (St. Paul)

File No. 00023 Twin Cities Public Television, Inc (St. Paul)

Mississippi

File No. 00222 Mississippi Authority for ETV (Jackson)

Missouri

File No. 00060 New Wave Corporation (Columbia)

File No. 00164 Public Television 19, Inc. (Kansas City)

File No. 00266 Southeast Missouri State (Cape Girardeau)

File No. 00036 Southwest Missouri State (Springfield)

File No. 00269 St. Louis Regional Ed & PTV Comm (St. Louis)

Montana

File No. 00168 Billings Community Cable Corporation (Billings)

File No. 00264 Northern Cheyenne Tribe (Lame Deer)

File No. 00257 Piegan Institute, Inc. (Browning)

Nebraska

File No. 00071 Educational Service Unit 7 (Columbus)

File No. 00100 Nebraska Educational T/C Commission (Lincoln)

File No. 00267 Nebraska Educational T/C Commission (Lincoln)

File No. 00020 University of Nebraska/Omaha (Omaha)

Nevada

File No. 00075 Channel 5 Public Broadcasting, Inc. (Reno)

File No. 00072 Clark County School District (Las Vegas)

File No. 00001 University & Comm. College System of Nevada (Reno)

File No. 00111 University of Nevada (Reno)

New Hampshire

File No. 00193 Dartmouth College (Hanover)

File No. 00051 New Hampshire Public Radio, Inc. (Concord)

File No. 00002 University of New Hampshire (Durham)

New Jersey

File No. 00231 New Jersey Public Broadcasting (Trenton)

File No. 00180 New Jersey Public Broadcasting Authority (Trenton)

File No. 00212 Newark Public Radio, Inc. (Newark)

New Mexico

File No. 00160 Eastern New Mexico University (Portales)

File No. 00058 University of New Mexico (Albuquerque)

New York

File No. 00129 Educational Broadcasting Corporation (New York)

File No. 00153 Long Island Education TV Council (Plaineview)

File No. 00221 Long Island University (Southampton)

File No. 00061 Public Council of Central New York (Syracuse)

File No. 00270 St. Lawrence University (Canton)

File No. 00239 Syracuse University (Syracuse)

File No. 00080 WMHT Educational Telecommunications (Schnectady)

File No. 00188 WNYC Radio (New York)

File No. 00155 WXXI Public Broadcasting Council (Rochester)

File No. 00005 Western NY Public Broadcasting Association (Buffalo)

North Carolina

File No. 00094 Eastern Band of Cherokee Indians (Cherokee)

File No. 00032 Gospel and Deliverance Ministries (Lumberton)

File No. 00132 Southwestern Community College (Sylva)

File No. 00070 University of North Carolina (Chapel Hill)

File No. 00091 University of North Carolina (Chapel Hill)

File No. 00209 University of North Carolina (Research Triangle Park)

File No. 00196 Word of God Christian Academy, Inc. (Raleigh)

North Dakota

File No. 00207 Prairie Public Broadcasting, Inc. (Fargo)

File No. 00210 Prairie Public Broadcasting, Inc. (Fargo)

File No. 00265 Prairie Public Broadcasting, Inc. (Fargo)

Northern Marianas

File No. 00124 Northern Marianas Public Schools (Saipan)

Ohio

File No. 00245 Antioch University (Yellow Springs)

File No. 00156 Columbus Board of Education (Columbus)

File No. 00021 ETV Association of Metropolitan Cleveland (Cleveland)

File No. 00022 ETV Association of Metropolitan Cleveland (Cleveland)

File No. 00190 Greater Cincinnati TV Educ Foundation (Cincinnati)

File No. 00252 Greater Dayton Public Television (Dayton)

File No. 00200 Northeastern Educational TV of Ohio (Kent)

File No. 00206 Ohio State University (Columbus)

File No. 00268 Ohio State University (Columbus)

File No. 00006 Ohio University (Athens)

File No. 00142 Public Broadcasting Foundation of NW Ohio (Toledo)

File No. 00017 Resources & Instruction/Staff Excellence (Cincinnati)

Oklahoma

File No. 00182 Cameron University (Lawton)

File No. 00183 Cameron University (Lawton)

File No. 00107 Oklahoma Educational TV Authority (Oklahoma City)

File No. 00057 University of Oklahoma (Norman)

Oregon

File No. 00240 Blue Mountain Community College (Pendleton)

File No. 00104 Oregon Public Broadcasting (Portland)

Pennsylvania

File No. 00141 Crawford County Regional Alliance (Meadville)

File No. 00163 Lehigh Valley Public T/C Corporation (Bethleham)

File No. 00047 Northeastern Pennsylvania ETV Association (Pittston)

File No. 00049 Northeastern Pennsylvania ETV Association (Pittston)

File No. 00004 Pennsylvania State University (University Park)

File No. 00073 Pennsylvania State University (University Park)

File No. 00097 Public Broadcasting of NW Pennsylvania (Erie)

File No. 00098 Public Broadcasting of NW Pennsylvania (Erie)

File No. 00249 Pennsylvania State University (University Park)

File No. 00105 WHYY, Inc. (Philadelphia)

File No. 00213 WITF, Inc. (Harrisburg)

File No. 00230 WITF, Inc. (Harrisburg)

File No. 00077 WQED Pittsburgh (Pittsburgh)

File No. 00122 WQED Pittsburgh (Pittsburgh)

Puerto Rico

File No. 00205 Ana G. Mendez University System (San Juan)

File No. 00219 University of Puerto Rico (San Juan)

Rhode Island

File No. 00232 Rhode Island Public T/C Authority (Providence)

South Carolina

File No. 00019 South Carolina ETV (Columbia)

File No. 00065 South Carolina ETV (Columbia)

South Dakota

File No. 00201 South Dakota Board of Directors for ETV (Vermillion)

Tennessee

File No. 00253 Greater Chattanooga Public TV Corporation (Chattanooga)

File No. 00216 Mid-South Public Communications Foundation (Memphis)

File No. 00217 Mid-South Public Communications Foundation (Memphis)

File No. 00009 Nashville Public Television (Nashville)

File No. 00003 University of Tennessee/Chattanooga (Chattanooga)

Texas

File No. 00174 Alamo Public T/C Council (San Antonio)

File No. 00246 Amarillo College (Amarillo)

File No. 00079 Capital of Public T/C Council (Austin)

File No. 00236 Dallas County Community College (Dallas)

File No. 00167 ETCOM, Inc. (El Paso)

File No. 00025 Houston Community College System (Houston)

File No. 00179 North Texas Public Broadcasting (Dallas)

File No. 00157 South Texas Broadcasting System (Corpus Christi)

File No. 00173 University of Houston (Houston)

File No. 00106 University of Houston System (Houston)

Utah

File No. 00121 Brigham Young University (Provo)

File No. 00043 Moab Public Radio (Moab)

File No. 00044 University of Utah (Salt Lake City)

File No. 00148 University of Utah (Salt Lake City)

File No. 00255 Utah State University (Logan)

Vermont

File No. 00162 Vermont ETV, Inc. (Colchester)

Virgin Island

File No. 00243 Virgin Islands Public TV System (Charlotte Amalie)

Virginia

File No. 00235 Central Virginia Educational Telecommunications Corporation (Falls Church)

File No. 00138 Hampton Roads Educational Telecommunications Association, Inc. (Norfolk)

File No. 00172 Old Dominion University (Norfolk)

File No. 00045 Shenandoah Valley Educational TV (Harrisonburg)

File No. 00048 Shenandoah Valley Educational TV (Harrisonburg)

File No. 00234 Tomorrow is Today (McLean)

File No. 00256 Valley Voice Friends (Harrisonburg)

Washington

File No. 00275 Bates Technical College (Tacoma)

File No. 00278 City of Centralia (Centralia)

File No. 00030 KCTS Television (Seattle)

File No. 00042 KCTS Television (Seattle)

File No. 00011 Spokane School Dist #81/ KSPS-TV (Spokane)

File No. 00086 Washington State University (Pullman)

File No. 00056 Washington State University (Pullman)

West Virginia

File No. 00237 HOPE Community Development Corporation (Charleston)

File No. 00099 Tyler Consolidated Middle/High School (Sistersville)

File No. 00276 WV Educational Broadcasting (Charleston)

File No. 00277 WV Educational Broadcasting (Charleston)

Wisconsin

File No. 00145 Educational Communications Board (Madison)

File No. 00215 La Crosse Med. Health Sci. Consortium (La Crosse)

File No. 00133 Lac Courte Oreilles Public Broadcasting (Hayward)

File No. 00199 Milwaukee Area Technical College (Milwaukee)

File No. 00220 University of Wisconsin (Madison)

File No. 00092 Wisconsin Public Radio (Madison)

File No. 00154 Clay County Communications Ltd. (Clendenin)

Bernadette McGuire-Rivera,
Associate Administrator, Office of Telecommunications and Information Applications.

[FR Doc. 00-11868 Filed 5-10-00; 8:45 am]

BILLING CODE 3510-60-P